DEPARTMENT OF THE TREASURY

Internal Revenue Service

26 CFR Part 1

[REG-166012-02]

RIN 1545-BB82

National Principal Contracts; Contingent Nonperiodic Payments; Correction

AGENCY: Internal Revenue Service (IRS), Treasury.

ACTION: Correction to a correction notice for proposed regulations.

SUMMARY: This document contains a correction to a correction notice for proposed regulations that were published in the Federal Register on March 23, 2004 (69 FR 13498) relating to the inclusion into income or deduction of a contingent nonperiodic payment provided for under a notional principal contract (NPC).

FOR FURTHER INFORMATION CONTACT: Kate Sleeth, (202) 622-3920 (not a toll free number).

SUPPLEMENTARY INFORMATION:

Background

The correction notice that is the subject of this document is under section 446 of the Internal Revenue Code.

Need for Correction

As published, the correction notice (REG-166012-02), contains an error that may prove to be misleading and is in need of clarification.

Correction of Publication

Accordingly, the correction notice (REG-166012-02), which was the subject of FR Doc. 04-6468, is corrected as follows:

On page 13498, columns 1 and 2, under the paragraph heading “Correction of Publication”, number 1 is corrected to read as follows:

1. On page 8886, column 1, in the heading, the subject line “National Principal Contracts; Contingent Nonperiodic Payments” is corrected to read “Notional Principal Contracts; Contingent Nonperiodic Payments''.

Cynthia Grigsby,
Acting Chief, Publications and Regulations Branch, Legal Processing Division, Associate Chief Counsel, (Procedures and Administration).

[FR Doc. 04-13954 Filed 6-18-04; 8:45 am]

BILLING CODE 4830-01-P